SMALL BUSINESS ADMINISTRATION

Notice Seeking Exemption Under Section 312 of the Small Business Investment Act, Conflicts of Interest

Notice is hereby given that TD Javelin Capital Fund, LP (“TD Javelin I”), 2850 Cahaba Road, Suite 240, Birmingham, Alabama 35223, a Federal Licensee under the Small Business Investment Act of 1958, as amended (“the Act”), and TD Javelin Capital Fund II, LP (“TD Javelin II”, and together with TD Javelin I the “Funds”), 2850 Cahaba Road, Suite 240, Birmingham, Alabama 35223, a Federal Licensee under the Act, in connection with the financing of a small concern, have sought an exemption under section 312 of the Act and section 107.730, Financings which Constitute Conflicts of Interest of the Small Business Administration (“SBA”) rules and regulations (13 CFR 107.730 (2000)). The Funds propose to provide equity financing to Prolinx, Inc. (“Prolinx”), 22322 Twentieth Avenue South East, Bothell, Washington 98021. The financing is contemplated for product development and working capital.

The financing is brought within the purview of Sec. 107.730(a)(1) of the Regulations because TD Javelin I and its associate, Tullis-Dickerson Capital Focus II, LP, currently own greater than 10 percent of Prolinx, and therefore Prolinx is considered an Associate of each of TD Javelin I and TD Javelin II as defined in Sec. 107.50 of the regulations.

Notice is hereby given that any interested person may submit written comments on the transaction to the Associate Administrator for Investment, U.S. Small Business Administration, 409 Third Street, SW, Washington, DC 20416.

Dated: April 26, 2000.
Don A. Christensen,
Associate Administrator for Investment.

[FR Doc. 00-11498 Filed 5-8-00; 8:45 am]

BILLING CODE 8025-01-P